DEPARTMENT OF JUSTICE

Foreign Claims Settlement Commission

Privacy Act of 1974; Systems of Records

AGENCY: Foreign Claims Settlement Commission; Justice.

ACTION: Revisions of Notice of Privacy Act Systems of Records; correction.

SUMMARY: Pursuant to the provisions of the Privacy Act of 1974, 5 U.S.C. 552a, the Foreign Claims Settlement Commission gave notice by publication in the Federal Register on November 14, 2006 (71 FR 66347) of a proposal to modify all of its systems of records to include a new routine use. This Notice also included an updated Table of Contents of the Commission's Privacy Act Systems of Records, in order to reflect the deletion of four of its records systems due to the release of the records in those systems to the National Archives for permanent retention.

This Table of Contents erroneously included two Privacy Act Systems of Records which had previously been deleted. Accordingly, the Foreign Claims Settlement Commission hereby deletes from the revised Table of Contents of its Privacy Act Systems of Records published on November 14, 2006, the following two items: “Justice/FCSC-6, Correspondence (General),” and “Justice/FCSC-7, Correspondence (Inquiries Concerning Claims in Foreign Countries).” In all other respects, this revised Table of Contents continues in effect as replacement for the Table of Contents included as part of the Privacy Act Systems of Records Notice published by the Foreign Claims Settlement Commission in the Federal Register on June 10, 1999 (64 FR 31296), the information in which remains accurate and up-to-date.

Mauricio J. Tamargo,
Chairman.

[FR Doc. E6-20454 Filed 12-1-06; 8:45 am]

BILLING CODE 4410-BA-P